DEPARTMENT OF JUSTICE

[OMB Number 1125-0017]

Agency Information Collection Activities; Proposed eCollection eComments Requested; Certification and Release of Records

AGENCY: Executive Office for Immigration Review, Department of Justice.

ACTION: 30-Day notice.

SUMMARY: The Executive Office for Immigration Review (EOIR), Department of Justice (DOJ), will be submitting the following information collection (ICR) request to the Office of Management and Budget (OMB) for review and approval in accordance with the Paperwork Reduction Act of 1995. The proposed information collection was previously published in the Federal Register on September 7, 2023, allowing a 60-day comment period.

DATES: Comments are encouraged and will be accepted for 30 days until December 22, 2023.

FOR FURTHER INFORMATION CONTACT: If you have comments especially on the estimated public burden or associated response time, suggestions, or need a copy of the proposed information collection instrument with instructions or additional information, please contact: Lauren Alder Reid, Assistant Director, Office of Policy, Executive Office for Immigration Review, 5107 Leesburg Pike, Suite 2500, Falls Church, VA 22041, telephone: 703-305-0289, email: lauren.alder.reid@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-0017. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision and extension of a previously approved collection.

2. Title of the Form/Collection: Certification and Release of Records.

3. Agency form number, if any, and the applicable component of the Department of Justice sponsoring the collection: EOIR-59, Executive Office for Immigration Review.

4. Affected public who will be asked or required to respond, as well as a brief abstract: Individuals or households. The obligation to respond is optional and voluntary.

This ICR is used by EOIR to standardize and streamline requests for records related to cases or proceedings before EOIR pursuant to the Privacy Act and Freedom of Information Act (FOIA). An individual who is in or has been in proceedings before EOIR and seeks to authorize the disclosure of their information, including information retained in case files or a Record of Proceeding (documents, and if applicable, audio recordings), to an attorney, accredited representative, qualified organization, or other third party may use this form to authorize the disclosure. Revisions were made to the form to improve the Agency's implementation of the identity and guardianship verification requirements set forth in 28 CFR 16.41 and to ensure that privacy-protected information is not improperly released.

5. Obligation to Respond: Voluntary.

6. Total Estimated Number of Respondents: 55,475.

7. Estimated Time per Respondent: 10 minutes.

8. Frequency: Once a year or annually.

9. Total Estimated Annual Time Burden: 9,246 hours.

10. Total Estimated Annual Other Costs Burden: $0.

If additional information is required, contact: Darwin Arceo, Department Clearance Officer, Policy and Planning Staff, Justice Management Division, United States Department of Justice, Two Constitution Square, 145 N Street NE, 4W-218, Washington, DC 20530.

Dated: November 16, 2023.
Darwin Arceo,
Department Clearance Officer for PRA, U.S. Department of Justice.

[FR Doc. 2023-25763 Filed 11-21-23; 8:45 am]

BILLING CODE 4410-30-P